DEPARTMENT OF ENERGY

Federal Energy Regulatory Commission

[Docket No. IC14-7-000]

Commission Information Collection Activities (FERC-603); Comment Request; Extension

AGENCY: Federal Energy Regulatory Commission, DOE.

ACTION: Notice of information collection and request for comments.

SUMMARY: In compliance with the requirements of the Paperwork Reduction Act of 1995, 44 U.S.C. 3506(c)(2)(A), the Federal Energy Regulatory Commission (Commission or FERC) is soliciting public comment on the currently approved information collection, FERC-603, Critical Energy Infrastructure Information Request.

DATES: Comments on the collection of information are due April 14, 2014.

ADDRESSES: You may submit comments (identified by Docket No. IC14-7-000) by either of the following methods:

• eFiling at Commission's Web site: http://www.ferc.gov/docs-filing/efiling.asp

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-603, Critical Energy Infrastructure Information Request

OMB Control No.: 1902-0197

Type of Request: Three-year extension of the FERC-603 information collection requirements with no changes to the current reporting requirements.

Abstract: This collection is used by the Commission to implement procedures for gaining access to critical energy infrastructure information (CEII) that would not otherwise be available under the Freedom of Information Act (5 U.S.C. 552). On February, 21, 2003, the Commission issued Order No. 630 (66 FR 52917) to address the appropriate treatment of CEII in the aftermath of the September 11, 2001 terrorist attacks and to restrict unrestrained general access due to the ongoing terrorism threat. These steps enable the Commission to keep sensitive infrastructure information out of the public domain, decreasing the likelihood that such information could be used to plan or execute terrorist attacks. The process adopted in Order No. 630 is a more efficient alternative for handling requests for previously public documents than FOIA. The Commission has defined CEII to include information about “existing or proposed critical infrastructure that (i) relates to the production, generation, transportation, transmission, or distribution of energy; (ii) could be useful to a person planning an attack on critical infrastructure; (iii) is exempt from mandatory disclosure under the Freedom of Information Act, and (iv) does not simply give the location of the critical infrastructure. Critical infrastructure means existing and proposed systems and assets, whether physical or virtual, the incapacity or destruction of which would negatively affect security, economic security, public health or safety, or any combination of those matters. A person seeking access to CEII may file a request for that information by providing information about their identity and reason as to the need for the information. Through this process, the Commission is able to review the requester's need for the information against the sensitivity of the information. Compliance with these requirements is mandatory.

Type of Respondents: Persons seeking access to CEII.

Estimate of Annual Burden ¹: The Commission estimates the total Public Reporting Burden for this information collection as:

¹ The Commission defines burden as the total time, effort, or financial resources expended by persons to generate, maintain, retain, or disclose or provide information to or for a Federal agency. For further explanation of what is included in the information collection burden, reference 5 Code of Federal Regulations 1320.3.

FERC-604: Critical Energy Infrastructure Information Request
| Number of respondents (A) | Number of responses per respondent (B) | Total number of responses (A)×(B)=(C) | Average burden hours per response (D) | Estimated total annual burden (C)×(D)
Persons seeking access to CEII | 200 | 1 | 200 | 0.3 | 60

The total estimated annual cost burden per respondents is approximately $21 (0.3 hours * $70.50/hour ² = $21.15). The total estimated annual cost burden is $4,230 [60 hours * $70.50/hour = $4,230).

² $70.50/hour is the FERC staff average, including benefits. Staff assumes that respondents for this collection are in a similar wage category.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 5, 2014.
Kimberly D. Bose,
Secretary.

[FR Doc. 2014-02926 Filed 2-10-14; 8:45 am]

BILLING CODE 6717-01-P